FEDERAL COMMUNICATIONS COMMISSION

47 CFR Part 25

[IB Docket No. 00-248, FCC 02-45]

Satellite License Procedures

AGENCY: Federal Communications Commission.

ACTION: Final rule.

SUMMARY: In this document, the Commission adopts rule revisions that would enable it to issue satellite and earth station licenses with 15-year license terms, rather than the 10-year license terms permitted under the current rules. These rule revisions are intended to reduce the administrative burdens of satellite licensees and earth station licensees.

DATES: Effective April 18, 2002.

FOR FURTHER INFORMATION CONTACT: Steven Spaeth, Satellite Division, International Bureau, (202) 418-1539.

SUPPLEMENTARY INFORMATION: This is a summary of the Commission's First Report and Order adopted February 14, 2002 and released February 28, 2002. The full text of this Commission decision is available for inspection and copying during normal business hours in the FCC Public Reference Room, 445 Twelfth Street, SW., Room CY-A257, Washington, DC 20554. The complete text of this decision may also be purchased from the Commission's copy contractor, Qualex International, Portals II, 445 Twelfth Street, SW., Room CY-B402, Washington, DC 20554.

Paperwork Reduction Act

The rule revisions adopted in this First Report and Order have been analyzed with respect to the Paperwork Reduction Act of 1995, Public Law 104-13, and do not contain new and/or modified information collections subject to Office of Management and Budget review.

Regulatory Flexibility Analysis

In this First Report and Order, the Commission extends the license term of all space station and earth station granted after the effective date of these rules from 10 years to 15 years. The effect of these rule revisions is to reduce the number of times space station and earth station licensees will be required to renew their licenses. This will reduce the administrative burdens of space station and earth station licensees. We expect that this change will be minimal and positive. Therefore, we certify that the requirements of this First Report and Order will not have a significant economic impact on a substantial number of small entities. The Commission will send a copy of the First Report and Order, including a copy of this final certification, in a report to Congress pursuant to the Congressional Review Act, see 5 U.S.C. 801(a)(1)(A). In addition, the First Report and Order and this certification will be sent to the Chief Counsel for Advocacy of the Small Business Administration, and will be published in the Federal Register. See 5 U.S.C. 605(b).

Summary of First Report and Order

Currently, Part 25 of the Commission's rules provides for issuing earth station licenses, space station licenses, and receive-only earth station registrations with a maximum of 10-year license terms. In this First Report and Order, the Commission revises Part 25 to allow for earth station licenses, space station licenses, and receive-only earth station registrations with 15-year license terms.

Ordering Clauses

Pursuant to sections 4(i), 7(a), 11, 303(c), 303(f), 303(g), and 303(r) of the Communications Act of 1934, as amended, 47 U.S.C. 154(i), 157(a), 161, 303(c), 303(f), 303(g), 303(r), this First Report and Order is hereby adopted.

Part 25 of the Commission's rules is amended as set forth in the Rule Changes.

The rule revisions adopted in this First Report and Order will be effective 30 days after a summary of this Order is published in the Federal Register.

The Commission's Consumer Information Bureau, Reference Information Center, shall send a copy of this First Report and Order, including the Final Regulatory Flexibility Certification, to the Chief Counsel for Advocacy of the Small Business Administration.

List of Subjects in 47 CFR Part 25

Satellites.

Federal Communications Commission.
William F. Caton,
Acting Secretary.

Rule Changes

For the reasons discussed in the preamble, the Federal Communications Commission amends 47 CFR part 25 as follows:

PART 25—SATELLITE COMMUNICATIONS

1. The authority citation for Part 25 continues to read as follows:

Authority: 47 U.S.C. 701-744. Interprets or applies Sections 4, 301, 302, 303, 307, 309, and 332 of the Communications Act, as amended, 47 U.S.C. Sections 154, 301, 302, 303, 307, 309, 332, unless otherwise noted.

2. Section 25.121 is amended by revising paragraphs (a), (b), and (d)(2) to read as follows:

§ 25.121 License term and renewals.

(a) License term. Licenses for facilities governed by this part will be issued for a period of 15 years.

(b) The Commission reserves the right to grant or renew station licenses for less than 15 years if, in its judgment, the public interest, convenience and necessity will be served by such action.

* * * * *

(d) * * *

(2) For non-geostationary satellite orbit satellites, the license term will begin at 3 a.m. EST on the date that the licensee certifies to the Commission that its initial space station has been successfully placed into orbit and that the operations of that satellite fully conform to the terms and conditions of the space station system authorization. All space stations launched and brought into service during the 15-year license term shall operate pursuant to the system authorization, and the operating authority for all space stations will terminate upon the expiration of the system license.

* * * * *

3. Section 25.131 is amended by revising paragraph (h) to read as follows:

§ 25.131 Filing requirements for receive-only earth stations.

* * * * *

(h) Registration term: Registrations for receive-only earth stations governed by this section will be issued for a period of 15 years from the date on which the application was filed. Applications for renewals of registrations must be submitted on FCC Form 405 (Application for Renewal of Radio Station License in Specified Services) no earlier than 90 days and no later than 30 days before the expiration date of the registration.

* * * * *

[FR Doc. 02-6524 Filed 3-18-02; 8:45 am]

BILLING CODE 6712-01-P